DEPARTMENT OF ENERGY

Federal Energy Regulatory Commission

[Docket No. CP08-207-000]

Transcontinental Gas Pipe Line Corporation; Notice of Application

May 6, 2008.

Take notice that on April 29, 2008, Transcontinental Gas Pipe Line Corporation (Transco), Post Office Box 1396, Houston, Texas 77251, filed in Docket No. CP08-207-000, an application, pursuant to sections 7(b) and 7(c) of the Natural Gas Act (NGA), for an order authorizing Transco to: (1) Abandon its Hester Storage Field and a portion of the connecting pipeline (Hester Lateral), located in St. James Parish, Louisiana; and (2) install temporary compression to facilitate the withdrawal of recoverable injected base gas from the Hester Storage Field, all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Transco states that the abandonment of the Hester Storage Field is necessary because of continuing gas losses from the reservoir. Transco estimates that the complete abandonment of the storage field will take approximately three years (2009-2011) with the first two years devoted to withdrawing the recoverable injected base gas from the reservoir. During the final year of the abandonment process Transco will remove all above ground facilities, plug all wells, and remove gathering lines. In addition, Transco will abandon in place 4.75 miles of the 8.66 mile Hester Lateral. The remaining part of the Hester Lateral will continue to be used to provide service to a chemical plant owned by Occidental Chemical Corporation. Transco intends to sell the recovered injected base gas and, in accordance with Article V, Section A, Subsection 1 of the Stipulation and Agreement filed with the Commission on November 28, 2007 in Docket Nos. RP06-569-000, et. al., share the proceeds from the sale with its customers.

Any questions regarding this application should be directed to Ingrid Germany, Transcontinental Gas Pipe Line Corporation, Post Office Box 1396, Houston, Texas 77251 at (713) 215-4015.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: May 28, 2008.

Kimberly D. Bose,
Secretary.

[FR Doc. E8-10608 Filed 5-12-08; 8:45 am]

BILLING CODE 6717-01-P